DEPARTMENT OF HOMELAND SECURITY

Coast Guard

[Docket No. USCG-2009-0097]

Notice of Availability of Draft Environmental Impact Statement and Announcement of Public Meetings for the Goethals Bridge Replacement Project

AGENCY: Coast Guard, DHS.

ACTION: Notice of availability and request for comments; notice of public meetings.

SUMMARY: The Coast Guard announces the availability of a Draft Environmental Impact Statement (DEIS) and two public meetings, one in Staten Island, New York (NY) and one in Elizabeth, New Jersey (NJ), on the proposed replacement of the Port Authority of New York and New Jersey's (PANYNJ) Goethals Bridge across the Arthur Kill between Staten Island, NY, and Elizabeth, NJ. We request your comments on the Goethals Bridge Replacement DEIS.

DATES: Comments and related material must either be submitted to our online docket via http://www.regulations.gov on or before July 28, 2009 or reach the Docket Management Facility by that date.

Two public meetings will be held, one on Wednesday, July 8, 2009, from 4 p.m. to 8 p.m. and another on Thursday, July 9, from 4 p.m. to 8 p.m. to provide an opportunity for oral comments. Any oral comments provided at the meeting will be transcribed and placed into the docket by the Coast Guard. Please note that the meetings may close early if all business is finished. Written comments and related material may also be submitted to Coast Guard personnel specified at that meeting for placement into the docket by the Coast Guard. The comment period for the DEIS closes on July 28, 2009. All comments and related material submitted after the meeting must either be submitted to our online docket via http://www.regulations.gov on or before July 28, 2009 or reach the Docket Management Facility by that date.

ADDRESSES: You may submit comments identified by docket number USCG-2009-0097 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

The Coast Guard First District Bridge Office at One South Street, Battery Park Building, New York, NY 10004-1466, will maintain a printed copy of the DEIS for public review. The document will be available for inspection or copying at this location between 9 a.m. and 3:30 p.m., Monday through Friday, except Federal holidays.

The public meeting on Wednesday, July 8, 2009, will be held in the Council Chambers of Elizabeth City Hall, 50 Winfield Scott Plaza Elizabeth, NJ. The public meeting on Thursday, July 9, 2009, will be held in the Harbor Room, Staten Island Hotel, 1415 Richmond Avenue, Staten Island, NY. Please note that the meetings may close early if all business is finished.

FOR FURTHER INFORMATION CONTACT: If you have questions regarding this notice or either of the public meetings, call or e-mail Gary Kassof, Bridge Program Manager, First Coast Guard District, U.S. Coast Guard; telephone 212-668-7165, e-mail gary.kassof@uscg.mil. If you have questions regarding viewing or submitting material to the docket, call Renee V. Wright, Program Manager, Docket Operations, telephone 202-366-9826.

SUPPLEMENTARY INFORMATION:

Public Participation and Request for Comments

We encourage you to submit comments and related material on the Goethals Bridge Replacement DEIS. All comments received, including comments received at the public meetings, will be posted, without change, to http://www.regulations.gov and will include any personal information you have provided. Submitting comments: If you submit a comment, please include the docket number for this notice (USCG-2009-0097) and provide a reason for each suggestion or recommendation. You may submit your comments and material online, by fax, mail, or hand delivery, but please use only one of these means. We recommend that you include your name and a mailing address, an e-mail address, or a telephone number in the body of your document so that we can contact you if we have questions regarding your submission.

To submit your comment online, go to http://www.regulations.gov, select the Advanced Docket Search option on the right side of the screen, insert “USCG-2009-0097” in the Docket ID box, press Enter, and then click on the balloon shape in the Actions column. If you submit your comments by mail or hand delivery, submit them in an unbound format, no larger than 81/2 by 11 inches, suitable for copying and electronic filing. If you submit them by mail and would like to know that they reached the Facility, please enclose a stamped, self-addressed postcard or envelope. We will consider all comments and material received during the comment period.

Comments submitted to the docket are a matter of public record and need not be resubmitted at the meetings. Speakers are encouraged to provide written copies of their oral statements to the Coast Guard at the time and place of the meeting. Each written comment should also identify the proposed project including the docket number (USCG-2009-0097), clearly state the reason for any objections, comments or proposed changes to the project and include the name and address of the person or organization submitting the comment. All comments received whether in writing or presented orally at the public meetings, will be fully considered before final agency action is taken on the proposed bridge permit action.

Viewing the comments and the DEIS: To view the comments and the DEIS, go to http://www.regulations.gov, select the Advanced Docket Search option on the right side of the screen, insert USCG-2009-0097 in the Docket ID box, press Enter, and then click on the item in the Docket ID column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility. The DEIS is also available online at http://www.goethalseis.com/eis/ and is available for inspection at the First Coast Guard District address given under ADDRESSES.

Copies of all written communications from the public meetings will be available for review by interested persons after the meetings on the Internet at http://www.goethalseis.com as well as on the Federal rulemaking docket at http://www.regulations.gov. Transcripts of the meetings will be available for public review approximately 30 days after the meetings. All comments will be made part of the rulemaking docket.

Privacy Act: Anyone can search the electronic form of comments received into any of our dockets by the name of the individual submitting the comment (or signing the comment, if submitted on behalf of an association, business, labor union, etc.). You may review a Privacy Act, system of records notice regarding our public dockets in the January 17, 2008 issue of the Federal Register (73 FR 3316).

Background and Purpose

The PANYNJ, a transportation and development agency in the Port of New York and New Jersey, has proposed replacement of the functionally and physically obsolete Goethals Bridge, which carries I-278 vehicular traffic between Staten Island, NY, and Elizabeth, NJ. Over the past two decades, PANYNJ studies have shown the need to: Address design deficiencies of the existing bridge; provide safer operating conditions and reduce accidents on the bridge; provide for safe and reliable truck access as part of the regional commercial network; reduce life-cycle costs; provide transportation system redundancy; and improve traffic service. The project consists of a new cable-stayed bridge to replace the existing bridge, which is proposed for demolition. The new bridge would consist of six 12-foot travel lanes, three on each roadway deck, inner and outer shoulders, a bikeway/sidewalk and a central area of sufficient width to accommodate the potential for a future transit system.

As a structure over navigable waters of the United States, any replacement bridge requires a U.S. Coast Guard Bridge Permit pursuant to the General Bridge Act of 1946 (Title 33 U.S.C. 525-533). Additionally, the bridge permit would be the major Federal action in this undertaking since Federal funds will not be used, and therefore the Department of Homeland Security, through the United States Coast Guard is the Federal lead agency for review of potential effects on the human environment, including historic properties, pursuant to the National Environmental Policy Act of 1969 (NEPA), as amended (42 U.S.C. 4321 et seq.) and the National Historic Preservation Act (NHPA), as amended (16 U.S.C. 470). The Coast Guard has prepared a DEIS. See “Viewing the comments and DEIS” above. The DEIS identifies and examines the reasonable alternatives (including No Build) and assesses the potential for impact to the human environment, including historic properties, of the alternative proposals. The DEIS provides an in-depth analysis of four alternative build sites, two north and two south of the existing bridge.

We are requesting your comments on environmental and historic preservation concerns that you may have related to the DEIS. This includes suggesting analyses and methodologies for use in the DEIS or possible sources of data or information not included in the DEIS. Your comments will be considered in preparing the final Environmental Impact Statement.

Information on Service for Individuals With Disabilities

For information on facilities or services for individuals with disabilities or to request special assistance at the public meetings, contact Gary Kassof, Bridge Program Manager, First Coast Guard District, U.S. Coast Guard; at the telephone number or e-mail address indicated under the FOR FURTHER INFORMATION CONTACT section of this notice. Any requests for an oral or sign language interpreter must be received by June 24, 2009.

Public Meeting

The Coast Guard will hold two public meetings regarding the DEIS:

1. On Wednesday, July 8, 2009, from 4 p.m. to 8 p.m. in the Council Chambers of Elizabeth City Hall, 50 Winfield Scott Plaza, Elizabeth, NJ;

2. On Thursday, July 9, 2009, from 4 p.m. to 8 p.m. in the Harbor Room of The Staten Island Hotel, 1415 Richmond Avenue, Staten Island, NY.

The purpose of these meetings is to consider an application by the PANYNJ for Coast Guard approval of the location and plans of a proposed six lane fixed, vehicular bridge across Arthur Kill, mile 11.5 between Staten Island, NY, and Elizabeth, NJ, which would replace the existing Goethals Bridge. All interested parties may present data, views and comments, orally or in writing, concerning the impact of the proposed bridge project on navigation and the human environment. Of particular concern at this time is the impact the proposed action will have on the human environment and historic properties.

The public meetings will be informal. A representative of the Coast Guard will preside, make a brief opening statement and announce the procedure to be followed at the meetings. Attendees who request an opportunity to present oral comments at a public meeting must sign up to speak at the meeting site at the designated time of the meeting. Speakers will be called in the order of receipt of the request. Attendees at the meeting, who wish to present testimony, and have not previously made a request to do so, will follow those having submitted a request, as time permits. All oral presentations will be limited to three minutes. Please note that the meetings may close early if all business is finished.

This notice is issued under authority of the Administrative Procedure Act (5 U.S.C. 553 (c)); the General Bridge Act of 1946 (Title 33 U.S.C. 525-533); and the National Environmental Policy Act of 1969 (Section 102 (2)(c)), as implemented by the Council on Environmental Quality regulations (40 CFR parts 1500-1508), Department of Homeland Security Directive 023-01, and Coast Guard Commandant Instruction M16475.1D.

Dated: May 21, 2009.
Hala Elgaaly,
Administrator, Bridge Program, United States Coast Guard.

[FR Doc. E9-12335 Filed 5-27-09; 8:45 am]

BILLING CODE 4910-15-P